DEPARTMENT OF HOMELAND SECURITY

8 CFR Part 106

[CIS No. 2830-25]

Adjustment to Premium Processing Fees

AGENCY: U.S. Citizenship and Immigration Services, DHS.

ACTION: Final rule.

SUMMARY: The Department of Homeland Security (DHS) is increasing premium processing fees charged by U.S. Citizenship and Immigration Services (USCIS) to reflect the amount of inflation from June 2023 through June 2025 according to the Consumer Price Index for All Urban Consumers.

DATES:

Effective date: This rule is effective on March 1, 2026.

Compliance date: Requests for premium processing postmarked on or after March 1, 2026, must include the new fee.

FOR FURTHER INFORMATION CONTACT: Office of Chief Financial Officer, U.S. Citizenship and Immigration Services, Department of Homeland Security, 5900 Capital Gateway Drive, Camp Springs, MD 20746; telephone 240-721-3000 (this is not a toll-free number). Individuals with hearing or speech impairments may access the telephone number above via TTY by calling the toll-free Telecommunications Relay Service at 711.

SUPPLEMENTARY INFORMATION:

I. Table of Abbreviations

BLS—U.S. Bureau of Labor Statistics

CFR—Code of Federal Regulations

CPI—Consumer Price Index

CPI-U—Consumer Price Index for All Urban Consumers

CRA—Congressional Review Act

DHS—Department of Homeland Security

E.O.—Executive Order

FY—Fiscal Year

INA—Immigration and Nationality Act

NEPA—National Environmental Protection Act

NIW—National Interest Waiver

SBREFA—Small Business Regulatory Enforcement Fairness Act of 1996

USCIS—U.S. Citizenship and Immigration Services

I. Background and Authority

Section 286(u) of the Immigration and Nationality Act (INA), 8 U.S.C. 1356(u) provides the Secretary with specific authority to establish and collect a premium fee for the premium processing of certain immigration benefit types.¹ Premium processing means that DHS collects a fee in addition to the regular filing fee from persons or entities seeking expedited processing of eligible immigration benefit requests.²

¹ “Premium fees” and “premium processing fees” are used interchangeably throughout this rule.

² See 8 CFR 1.2 for the definition of “Benefit request”; see 8 CFR 106.4 for those immigration benefit requests currently eligible for premium processing.

In 2000, Congress added new section 286(u) to the INA, 8 U.S.C. 1356(u), to permit the former Immigration and Naturalization Service to designate certain employment-based immigration benefit requests for premium processing subject to an additional fee.³ In 2001, the former Immigration and Naturalization Service, pursuant to its authority under sections 103(a) and 286(u) of the INA, 8 U.S.C. 1103(a) and 1356(u), promulgated a regulation that established the rules for the new premium processing service. See Establishing Premium Processing Service for Employment-Based Petitions and Applications, 66 FR 29682 (June 1, 2001).

³ District of Columbia Appropriations Act of 2001, Public Law 106-553, App. B, tit. I, sec. 112, 114 Stat. 2762, 2762A-68 (Dec. 21, 2000).

On October 1, 2020, the Continuing Appropriations Act, which included the Emergency Stopgap USCIS Stabilization Act (USCIS Stabilization Act), set new fees for premium processing of immigration benefit requests that had been designated for premium processing as of August 1, 2020, and expanded DHS authority to establish and collect new premium processing fees, and to use those additional funds for expanded purposes. See Emergency Stopgap USCIS Stabilization Act, Public Law 116-159, sec. 4102 (Oct. 1, 2020); see also INA sec. 286(u), 8 U.S.C. 1356(u).

On October 16, 2020, USCIS announced it would increase the fees for premium processing, as required by the USCIS Stabilization Act, effective October 19, 2020.⁴ As of that date, the fee for Form I-907, Request for Premium Processing Service, increased from $1,440 to $2,500 for all immigration benefit requests that were designated for premium processing as of August 1, 2020, with the exception of the premium processing fee for petitioners filing Form I-129, Petition for a Nonimmigrant Worker, requesting H-2B or R-1 nonimmigrant status, which increased from $1,440 to $1,500.

⁴ See USCIS, Premium Processing Fee Increase Effective Oct. 19, 2020, https://www.uscis.gov/news/premium-processing-fee-increase-effective-oct-19-2020 (last visited July 11, 2025).

Effective May 31, 2022, DHS amended its premium processing regulations to codify the fees set by the USCIS Stabilization Act and establish new fees and processing timeframes consistent with the conditions and eligibility requirements set forth by section 4102(b)(1) of the USCIS Stabilization Act. See Implementation of the Emergency Stopgap USCIS Stabilization Act (USCIS Stabilization Rule), 87 FR 18227 (Mar. 30, 2022); see also 8 CFR 106.4.

The USCIS Stabilization Act also provided DHS with the authority to make a biennial inflationary based adjustment to USCIS premium processing fees. See INA sec. 286(u)(3)(C), 8 U.S.C. 1356(u)(3)(C). The first inflationary adjustment occurred when DHS published a final rule on December 23, 2023, to increase USCIS premium processing fees by the amount of inflation from June 2021 through June 2023 according to the Consumer Price Index for All Urban Consumers (CPI-U). See 88 FR 89539. The rule increased premium processing fees from $1,500 to $1,685, $1,750 to $1,965, and $2,500 to $2,805. USCIS announced the fee increases on its website on Dec. 27, 2023.⁵ The new fees went into effect on February 26, 2024.

⁵ USCIS, USCIS Announces Inflation Adjustment to Premium Processing Fees, https://www.uscis.gov/newsroom/alerts/uscis-announces-inflation-adjustment-to-premium-processing-fees (Dec. 27, 2023).

DHS is now increasing its premium processing fees based on the rate of inflation from June 2023 through June 2025, consistent with its statutory authority. See INA sec. 286(u)(3)(C), 8 U.S.C. 1356(u)(3)(C). DHS sets this inflationary adjustment to the premium processing fees to be effective on March 1, 2026, ensuring that the inflationary adjustment occurs on a biennial basis as set forth by Congress in the USCIS Stabilization Act. See INA sec. 286(u)(3)(C), 8 U.S.C. 1356(u)(3)(C).⁶

⁶ The last CPI-U adjustment to the premium processing fees took effect on February 26, 2024. See 88 FR 89539. Two years from that date (accounting for the weekend) is March 1, 2026.

II. Basis for Adjustment

DHS may adjust the premium processing fees on a biennial basis by the percentage by which the CPI-U for the month of June preceding the date on which such adjustment takes effect exceeds the CPI-U for the same month of the second preceding calendar year. See INA sec. 286(u)(3)(C), 8 U.S.C. 1356(u)(3)(C); see also 8 CFR 106.4(d).

The USCIS Stabilization Act established a baseline for premium processing fees and provided the authority for DHS to adjust the premium fees on a biennial basis. DHS's most recent inflationary increase to premium processing fees became effective February 26, 2024. See 88 FR 89539. DHS is now increasing the statutory premium fees using inflation for the most recent two-year period, as authorized and provided by section 286(u)(3)(C) of the INA, 8 U.S.C. 1356(u)(3)(C). This rule is effective on March 1, 2026; therefore, “the month of June preceding the date on which such adjustment takes effect” is June 2025. As such, June 2023 is “the same month of the second preceding calendar year,” because it is two years before the June “on which such adjustment takes effect.” Therefore, DHS is using the CPI-U as of June 2025 as the end point, and June 2023 as the starting point for the period of inflation to establish the new premium processing fees. In June 2023 the CPI-U was 305.109 and in June 2025 it was 322.561.⁷ Therefore, between June 2023 and June 2025, the CPI-U increased by 5.72 percent.⁸ When this percentage increase is applied to the current premium processing fees, the premium processing fees that were $1,685, increase to $1,780; the premium processing fees that were $1,965, increase to $2,075; and the premium processing fees that were $2,805, increase to $2,965.⁹ See new 8 CFR 106.4(c).

⁷ The latest CPI-U data is available at https://data.bls.gov/toppicks?survey=bls (last visited 7/15/2025). Select CPI-U 1982−84 = 100 (Unadjusted)—CUUR0000SA0 and click the Retrieve data button.

⁸ DHS calculated this by subtracting the June 2023 CPI-U (305.109) from the June 2025 CPI-U (322.561), then dividing the result (17.452) by the June 2023 CPI-U (305.109). Calculation: (322.561−305.109)/305.109 = .0572 × 100 = 5.72 percent.

⁹ DHS generally rounds USCIS fees that it establishes by rulemaking to the nearest $5 increment. See e.g., 89 FR 6194, 6212 (Jan. 31, 2024).

A request for premium processing postmarked on or after March 1, 2026, must include the new fee, as applicable to the benefit request classification. A premium processing request must be submitted on USCIS Form I-907, Request for Premium Processing, and in the manner prescribed by USCIS in the form instructions. If the request for premium processing is submitted together with the underlying immigration benefit request, all required fees in the correct amount must be paid. The fee to request premium processing service may not be waived and must be paid in addition to, and in a separate remittance from, other filing fees. See 8 CFR 106.4(b).

DHS is adjusting current premium processing fees to ensure that the premium processing fees keep pace with inflation as contemplated by Congress in the USCIS Stabilization Act. It is DHS's intention that premium processing fees will be adjusted biennially to consistently protect the real dollar value of the premium processing service that USCIS provides. When making an inflationary adjustment to the premium processing fees provided by INA sec. 286(u)(3)(C), 8 U.S.C. 1356(u)(3)(C), the adjustment is limited to the percentage by which the CPI-U for the month of June preceding the date on which such adjustment takes effect exceeds the CPI-U for the same month of the second preceding calendar year. By consistently adjusting premium processing fees biennially, the fees will more effectively keep up with the increasing USCIS costs of processing than is accomplished by adjusting them less often.

DHS will use the revenue generated by the premium processing fee increase to provide premium processing services; make improvements to adjudications processes; respond to adjudication demands, including processing backlogs; and otherwise fund USCIS adjudication and naturalization services.

III. Statutory and Regulatory Requirements

A. Administrative Procedure Act

The Administrative Procedure Act generally requires agencies to issue a proposed rule before issuing a final rule, subject to certain exceptions. See 5 U.S.C. 553(b). Section 286(u)(3)(C) of the INA, 8 U.S.C. 1356 (u)(3)(C), exempts DHS from the requirements of 5 U.S.C. 553. Section 286(u)(3)(C) of the INA, 8 U.S.C. 1356(u)(3)(C), specifically provides that “the provisions of section 553 of Title 5 shall not apply to an adjustment authorized under [section 286(u)(3)(C) of the INA, 8 U.S.C. 1356(u)(3)(C)].” Therefore, DHS is not required to issue a proposed rule when adjusting premium fees under section 286(u)(3)(C) of the INA, 8 U.S.C. 1356 (u)(3)(C).

The regulations at 8 CFR 106.4(d) provide that fees to request premium processing service may be adjusted by notice in the Federal Register. However, the Federal Register Act (44 U.S.C. 1510) and its implementing regulations (1 CFR part 21) provide that publishing a Notice document in the Federal Register announcing a new fee amount, without amending the regulations, does not effectuate a change of the Code of Federal Regulations (CFR). Because current premium processing fees are codified in the CFR, it is necessary for DHS to publish this rule to amend the regulatory text.

B. Executive Order 12866 (Regulatory Planning and Review), Executive Order 13563 (Improving Regulation and Regulatory Review), and Executive Order 14192 (Unleashing Prosperity Through Deregulation)

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying costs and benefits, reducing costs, harmonizing rules, and promoting flexibility. Executive Order 14192 (Unleashing Prosperity Through Deregulation) directs agencies to significantly reduce the private expenditures required to comply with Federal regulations and provides that “any new incremental costs associated with the new regulations shall, to the extent permitted by law, be offset by the elimination of existing costs associated with at least 10 prior regulations.”

The Office of Management and Budget (OMB) has not designated this rule a “significant regulatory action,” under section 3(f) of Executive Order 12866. Accordingly, OMB has not reviewed it.

This rule is not an Executive Order 14192 (see 5(a)) regulatory action because it is not significant under Executive Order 12866 and is being issued with respect to an immigration-related function of the United States. The rule's primary direct purpose is to implement or interpret the immigration laws of the United States (as described in INA sec. 101(a)(17), 8 U.S.C. 1101(a)(17)) or any other function performed by the U.S. Federal Government with respect to aliens. See OMB Memorandum M-25-20, “Guidance Implementing Section 3 of Executive Order 14192, titled “Unleashing Prosperity Through Deregulation” (Mar. 26, 2025).

DHS estimates an additional annual transfer to DHS of $77,119,780 (undiscounted) in revenue to be collected from fee-paying applicants and petitioners (public), due to the increase in premium processing fees subject to an adjustment for inflation (Table 1).¹⁰

¹⁰ Additional revenue collected calculation: $50,132,815 + $21,701,760 + $513,260 + $4,771,945 = $77,119,780 for forms I-129, I-140, I-539 and I-765, respectively.

BILLING CODE 9111-97-P

In addition to the impacts summarized above, Table 1a. below presents the prepared accounting statement showing the costs and benefits to each individual affected by this final rule.¹¹

¹¹ White House, OMB, Circular A-4 (April 6, 2023), available at https://www.whitehouse.gov/wp-content/uploads/2023/11/CircularA-4.pdf (last viewed Aug 14, 2025). OMB, Circular A-4, “Regulatory Analysis,” p. 93 (Nov. 9, 2023), https://trumpwhitehouse.archives.gov/sites/whitehouse.gov/files/omb/circulars/A4/a-4.pdf.

1. Form I-907, Request for Premium Processing Services Filed for Forms I-129 and I-140

Table 2 shows the estimated total receipts received and refunds issued by USCIS for Form I-907, Request for Premium Processing Service, filed for Forms I-129 and I-140 petitions, from fiscal year (FY) 2020 through FY 2024. Based on a 5-year annual average, DHS estimates the annual receipts for Forms I-907 to be 419,161 for the biennial period after this rule takes effect. In addition, based on the 5-year average, the annual number of refunds issued for Form I-907 is estimated to be 355.¹²

¹² USCIS presents data on refunds issued by USCIS because DHS regulations require USCIS to take certain adjudicative action for premium processing requests within 15, 30 or 45 days, depending on the underlying benefit request type, or refund the premium processing fee. See 8 CFR 106.4(e) and (f). The required period generally begins when USCIS properly receives the correct version of Form I-907, Request for Premium Processing Service, with fee, at the correct filing address or the date that all prerequisites for adjudication, the form prescribed by USCIS, and fee(s) are received by USCIS. Within the required period, USCIS must issue either an approval notice, denial notice, notice of intent to deny, or request for evidence, or open an investigation for fraud or misrepresentation. Otherwise, USCIS must refund the premium processing fee.

2. Form I-129, Petition for a Nonimmigrant Worker, Transfer Payments

Currently, petitioners requesting certain benefits on Form I-129, Petition for a Nonimmigrant Worker, are eligible to also submit a request for premium processing with their immigration benefit request or while the immigration benefit request is pending with USCIS. Table 3 shows the population of petitioners who submitted Form I-907 for Form I-129 based on the corresponding nonimmigrant classifications from FY 2020 through FY 2024.

Based on a 5-year annual average, DHS estimates the annual receipts from Form I-907 filed for Form I-129 H-2B or R-1 classifications to be 13,649. Based on a 5-year annual average, DHS estimates the annual receipts for Form I-907 associated with Forms I-129 to be 318,874, and assumes this annual number for the biennial period after the rule takes effect.

BILLING CODE 9111-97-C

This rule increases the premium processing fees for Forms I-907 filed for Form I-129 benefit requests. The premium processing fee for Forms I-907 requesting H-2B or R-1 nonimmigrant classification will increase from $1,685 to $1,780, an increase of $95, which is the result of a 5.72 percent increase in the CPI-U from June 2023 to June 2025.¹³ The premium processing fee for all other eligible Form I-129 classifications (E-1, E-2, E-3, H-1B, H-3, L-1A, L-1B, LZ, O-1, O-2, P-1, P-1S, P-2, P-2S, P-3, P-3S, Q-1, TN-1, and TN-2) will increase from $2,805 to $2,965, an increase of $160. Because the premium processing fee for H-2B and R-1 benefit requests will increase by a different amount than for all other Form I-129 classifications, the data for Forms I-129 requesting H-2B or R-1 classification was separated from the data for all other classifications.

¹³ The latest CPI-U data is available at https://data.bls.gov/toppicks?survey=bls (last visited July 15, 2025). Select CPI-U 1982−84 = 100 (Unadjusted)—CUUR0000SA0 and click the Retrieve data button. DHS calculated this by subtracting the June 2023 CPI-U (305.109) from the June 2025 CPI-U (322.561), then dividing the result (17.452) by the June 2023 CPI-U (305.109). Calculation: (322.561−305.109)/305.109 = .0572 × 100 = 5.72 percent.

Based on a 5-year annual average, DHS estimates an additional $1,296,655 annually in transfer payments will be collected from these new, higher premium processing fees for Forms I-129 requesting H-2B or R-1 classification.¹⁴ DHS estimates it will collect an additional $48,836,160 annually in transfer payments to DHS from premium processing requestors filing Form I-129 for all other eligible nonimmigrant classifications, based on a 5-year annual average.¹⁵ Accordingly, DHS estimates the total increase in transfer payments from the Form I-129 fee-paying population to DHS will be $50,132,815 (Table 4) annually.

¹⁴ Calculation: 13,649 annual Form I-129 petitions for H-2B or R-1 classification × $95 ($1,780 fee−$1,685 fee) = $1,296,655.

¹⁵ Calculation: 305,226 annual Form I-129 petitions for classifications other than H-2B and R-1 × $160 ($2,965 fee−$2,805 fee) = $48,836,160.

3. Form I-140, Immigrant Petition for Alien Worker, Transfer Payments

The estimated population of petitioners who submitted Form I-907, Request for Premium Processing Service, for Form I-140, Immigrant Petition for Alien Workers, based on the corresponding employment-based (EB) classifications that are currently designated for premium processing is 100,286 (Table 2) per year. The fee for all Form I-140 petitioners requesting premium processing will increase from $2,805 to $2,965, an increase of $160 based on the 5.72 percent increase in the CPI-U from June 2023 to June 2025.¹⁶ Using the historical 5-year annual average from FY 2020 through FY 2024, DHS estimates that as a result of the increase in filing fees for premium processing the additional annual transfer payments from the Form I-140 fee-paying population that request premium processing to DHS will be $16,045,760 (Table 5).

¹⁶ See supra FN 8.

Additionally, as of January 30, 2023, Form I-140 petitions under an E13 multinational executive and manager classification and petitions under an E21 national interest waiver (NIW) classification are eligible to request premium processing. Table 6 shows the E13 multinational executive and manager classification and E21 (NIW) classification populations. Based on FY 2024 data (excluding the partial FY 2023 totals), DHS estimates the annual average receipts of Form I-140, E13 and Form I-140, E21 (NIW) to be 79,119 (Table 6).

Since Forms I-140 for E13 and E21 (NIW) classification have only been recently eligible to request premium processing, DHS estimates the percentage of petitioners who will request E13 or E21 (NIW) classification based on FY 2024 data. The E21(NIW) classification began in 2023. So, in previous years we had reported the E13 and E21 classification for those years rather than the E21(NIW) classification that is actually eligible for premium processing now. In FY 2024, premium processing was requested for 35,350 Forms I-140 with E13 or E21 (NIW) classification from a total of 79,119 Forms I-140 requesting E13 or E21 (NIW) classification (Table 6). DHS calculates 45 percent of the eligible population opting for premium processing.¹⁷ DHS estimates 35,350 will annually request premium processing for Forms I-140 with E13 or E21 (NIW) classification.¹⁸

¹⁷ Calculation: 35,350 ÷ 79,119 = 0.45.

¹⁸ Calculation: 35,350 = 79,119 (annual average of I-140 forms with E13 & E21 (NIW)) × 45%.

In Table 7, DHS uses the annual 35,350 premium processing estimate for Forms I-140 requesting E13 or E21 (NIW) classification to estimate transfer payments to DHS. The fee for all Form I-140 petitioners requesting premium processing will increase from $2,805 to $2,965, an increase of $160 based on the 5.72 percent increase in the CPI-U from June 2023 to June 2025.¹⁹

¹⁹ See supra FN 8.

DHS estimates that as a result of the increase in filing fees for premium processing the additional annual transfer payments to DHS from these Form I-140 fee-paying populations will be $5,656,000 (Table 7).

DHS estimates that the combined additional annual transfer payments to DHS for premium processing requests for Form I-140, Immigrant Petition for Alien Worker, will be $21,701,760 ($16,045,760 + $5,656,000) per year.

4. Form I-539, Application To Extend/Change Nonimmigrant Status, Transfer Payments

The USCIS Stabilization Act authorized USCIS to permit premium processing for newly eligible Form I-539 filers. Per the statute, the fee was originally set at $1,750 and was subsequently increased to $1,965 by the 2023 CPI-U Adjustment. See 88 FR 89539 (Dec. 28, 2023). In June 2023, USCIS announced premium processing eligibility for change of status filers to the F-1, F-2, J-1, J-2, M-1, and M-2 classifications.²⁰ This newly eligible population of filers are students and exchange visitors (and their eligible dependents).

²⁰ https://www.uscis.gov/newsroom/alerts/uscis-expands-premium-processing-for-applicants-seeking-to-change-into-f-m-or-j-nonimmigrant-status (last updated June 12, 2023).

Because premium processing was allowed for these classifications recently, at the time of this analysis, DHS only has data for one full fiscal year (FY 2024) for eligible Form I-539 applicants that chose to submit premium processing requests. In FY 2024, a total of 6,838 Form I-539 filers requested premium processing of a change of status request to F-1, F-2, J-1, J-2, M-1, or M-2 nonimmigrant status. In FY 2024, the total number of applications requesting a change of status to F-1, F-2, J-1, J-2, M-1, or M-2 nonimmigrant status was 45,735. Thus, 15 percent of all F-1, F-2, J-1, J-2, M-1, and M-2 change of status requests for FY 2024 requested premium processing.²¹

²¹ Calculation: 6,838 ÷ 45,735 = 0.15.

For purposes of this analysis, we present historical Form I-539 filing rates for the F-1, F-2, J-1, J-2, M-1, and M-2 classifications and use the 15 percent premium processing demand rate to estimate premium processing receipts for FY 2020 through FY 2024. Table 8 shows the annual average receipt volumes and estimated premium processing receipts for FY 2020 through FY 2024. DHS estimates the 5-year annual average of the currently eligible F-1, F-2, J-1, J-2, M-1, M-2 classifications to be 31,104.

Using the estimated number of 5-year annual premium processing requests, DHS estimates there will be 4,666 annual premium processing filings for Form I-539 with the F-1, F-2, J-1, J-2, M-1, and M-2 classifications.²² The Form I-907 fee for all Form I-539 applicants requesting premium processing will increase from $1,965 to $2,075, an increase of $110 based on the 5.72 percent increase in the CPI-U from June 2023 to June 2025.²³ The increase in filing fees for premium processing requests for Form I-539 applications results in annual transfer payments from the Form I-539 fee-paying population to DHS of $513,260 (Table 9).

²² Calculation: 31,104 × 15% = 4,666.

²³ See supra FN 8.

5. Form I-765, Application for Employment Authorization, Transfer Payments

The USCIS Stabilization Act authorized USCIS to permit premium processing of the Form I-765, Application for Employment Authorization. The 2023 CPI-U Adjustment set the fee for the premium processing of Form I-765 at $1,685. USCIS began premium processing for Forms I-765 for students applying for Optional Practical Training (OPT) and students seeking science, technology, engineering, and mathematics (STEM) OPT extensions in March 2023.²⁴ This rule increases the premium processing fees for Form I-765. The premium processing fee for Form I-765 will increase from $1,685 to $1,780 an increase of $95, which is the result of a 5.72 percent increase in the CPI-U from June 2023 to June 2025.²⁵

²⁴ See https://www.uscis.gov/forms/all-forms/how-do-i-request-premium-processing (last updated June 18, 2024).

²⁵ See supra FN 8.

Table 10 shows the estimated OPT and STEM-OPT populations that are now eligible. Based on a 5-year annual average, DHS estimates the annual average receipts of Form I-765 from the OPT and STEM-OPT populations to be 218,394.

DHS had estimated the annual average receipts to be 102,495 from additional categories of Form I-765 that may become eligible for premium processing in the future.²⁶ However, DHS does not know when those will become eligible, and this population is not included in Table 10.

²⁶ See Implementation of the Emergency Stopgap USCIS Stabilization Act, 87 FR 18227 (Mar. 30, 2022).

As of March 6, 2023, certain F-1 students seeking Optional Practical Training (OPT) and F-1 students seeking science, technology, engineering, and mathematics (STEM) OPT extensions who have a pending Form I-765 and wish to request a premium processing upgrade, were eligible to file Form I-907 online. As of April 3, 2023, all pending and initial Form I-765 applications filed by F-1 students in these categories are eligible to request premium processing. Because premium processing for these Form I-765 categories was turned on mid-2023, DHS will use the percentage of Form I-765 applicants from FY 2024 with a premium processing request to estimate the number of Form I-765 applications filed by F-1 students requesting premium processing after this rule takes effect.

The USCIS Stabilization Rule's Regulatory Impact Analysis further projected 1,136,691 annual Form I-765 receipts belonging to classifications for which USCIS will consider, but has no immediate plans to expand premium processing eligibility as well as a final group of 802,145 belonging to Form I-765 classifications USCIS is unlikely to make eligible for premium processing.²⁷ These projected groups are excluded from Table 10 and this Rule's analysis because they are unlikely to be impacted by the decision to adjust premium processing fees for inflation over this biennial cycle. These impacts would be more appropriately quantified in a future inflation adjustment rule, when some reasonable expectation exists that premium processing eligibility for these Form I-765 classifications is likely in the future.

²⁷ The Implementation of the Emergency Stopgap USCIS Stabilization Act Final Rule, published March 30, 2022 estimated the number of newly eligible applicants beginning around FY 2025 based on data from FY 2017 through FY 2021 actuals. This still serves as a reasonable measure should this population become available for premium processing in the near future. See 87 FR 18250.

Since Form I-765 OPT and STEM-OPT applicants have only been recently eligible to request premium processing, DHS estimates the percentage of applicants who will apply based on FY 2024 data. In FY 2024, there were 66,312 Form I-765 premium processing receipts for eligible 294,551 Form I-765 OPT and STEM-OPT applicants, resulting in 23 percent requesting premium processing.²⁸ DHS estimates that 50,231 applicants (23 percent of the eligible population) out of the 218,394 (Table 10) Form I-765 OPT and STEM-OPT applicants who apply annually will submit a premium processing request with their Form I-765 application.

²⁸ 0.23 = 66,312 ÷ 294,551.

In Table 11, DHS uses the 50,231 population estimate from OPT and OPT-STEM population to estimate transfer payments to DHS. The Form I-907 fee for all Form I-765 applicants requesting premium processing will increase from $1,685 to $1,780, an increase of $95 based on the 5.72 percent increase in the CPI-U from June 2023 to June 2025.²⁹ DHS estimates that annual transfer payments to DHS from currently eligible OPT and OPT-STEM Form I-765 applicants requesting premium processing using Form I-907 will be 4,771,945.

²⁹ See supra FN 8.

6. Transfer Payments

DHS summarizes the estimated annual transfer payments from currently eligible Form I-129 and I-140 petitioners to DHS, and the estimated annual transfer payments from newly eligible classification Form I-140 petitioners, Form I-539 applicants, and Form I-765 applicants to DHS. Table 12 details that the estimated annual transfer payments of this final rule from the currently eligible Form I-129, Form I-140 and newly eligible Form I-140, Form I-539 and Form I-765 fee-paying population to DHS will be $77,119,780 due to the increase in premium processing filing fees.

7. Discounted Costs and Transfer Payments

The Continuing Appropriations Act, 2021 and Other Extensions Act, signed into law on October 1, 2020, contained the Emergency Stopgap USCIS Stabilization Act, which set new fees for premium processing of immigration benefit requests that had been designated for premium processing as of August 1, 2020, and expanded USCIS authority to establish and collect new premium processing fees and to use those additional funds for expanded purposes. For FY 2026 and FY 2027, DHS estimates the total annualized transfer payments to be $77,119,780.

C. Regulatory Flexibility Act (RFA)

The Regulatory Flexibility Act (RFA), 5 U.S.C. 605(b), as amended by the Small Business Regulatory Enforcement Fairness Act of 1996 (SBREFA), requires an agency to prepare and make available to the public a regulatory flexibility analysis that describes the effect of the rule on small entities (i.e., small businesses, small organizations, and small governmental jurisdictions). A regulatory flexibility analysis is not required when a rule is exempt from notice-and-comment rulemaking. This rule is exempted from notice-and-comment rulemaking by INA sec. 286(u)(3)(C), 8 U.S.C. 1356(u)(3)(C). Therefore, a regulatory flexibility analysis is not required for this rule.

D. Unfunded Mandates Reform Act of 1995 (UMRA)

The Unfunded Mandates Reform Act of 1995 (UMRA) is intended, among other things, to curb the practice of imposing unfunded Federal mandates on State, local, and Tribal governments.³⁰ Title II of UMRA requires each Federal agency to prepare a written statement assessing the effects of any Federal mandate in a proposed rule, or final rule for which the agency published a proposed rule, which includes any Federal mandate that may result in a $100 million or more expenditure (adjusted annually for inflation) in any one year by State, local, and Tribal governments, in the aggregate, or by the private sector. See 2 U.S.C. 1532(a). The inflation adjusted value of $100 million in 1995 is approximately $206 million in 2024 based on the CPI-U.³¹

³⁰ The term “Federal mandate” means a Federal intergovernmental mandate or a Federal private sector mandate. See 2 U.S.C. 1502(1), 658(5), (6).

³¹ See BLS, “Historical Consumer Price Index for All Urban Consumers (CPI-U): U.S. city average, all items, by month,” https://www.bls.gov/cpi/tables/supplemental-files/historical-cpi-u-202412.pdf (last visited Feb. 4, 2025). Calculation of inflation: (1) Calculate the average monthly CPI-U for the reference year (1995) and the current year (2024); (2) Subtract reference year CPI-U from current year CPI-U; (3) Divide the difference of the reference year CPI-U and current year CPI-U by the reference year CPI-U; (4) Multiply by 100 = [(Average monthly CPI-U for 2024-Average monthly CPI-U for 1995) ÷ (Average monthly CPI-U for 1995)] × 100 = [(313.689−152.383) ÷ 152.383] = (161.306/152.383) = 1.059 × 100 = 105.86% percent = 106 percent (rounded). Calculation of inflation-adjusted value: $100 million in 1995 dollars × 2.06 = $206 million in 2024 dollars.

This final rule is exempt from the written statement requirement because DHS did not publish a notice of proposed rulemaking for this rule. This final rule does not contain a Federal mandate as the term is defined under UMRA. See 2 U.S.C. 1502(1), 658(6).

E. Small Business Enforcement Fairness Act of 1996 (Congressional Review Act)

The Congressional Review Act (CRA) was included as part of the Small Business Regulatory Enforcement Fairness Act of 1996 (SBREFA) by section 804 of SBREFA, Public Law 104-121, 110 Stat. 847, 868, et seq. The Office of Information and Regulatory Affairs (OIRA) has determined that this rule is not a major rule as defined by Section 804 of SBREFA because it is not likely to result in an annual effect on the economy of $100 million or more. See 5 U.S.C. 804(2)(A). DHS has complied with the CRA's reporting requirements and has sent this final rule to Congress and to the Comptroller General as required by 5 U.S.C. 801(a)(1).

F. Executive Order 13132 (Federalism)

This final rule will not have substantial direct effects on the States, on the relationship between the National Government and the States, or on the distribution of power and responsibilities among the various levels of government. Therefore, in accordance with section 6 of Executive Order 13132, it is determined that this final rule does not have sufficient federalism implications to warrant the preparation of a federalism summary impact statement.

G. Executive Order 12988 (Civil Justice Reform)

This final rule was drafted and reviewed in accordance with Executive Order 12988, Civil Justice Reform. This final rule was written to provide a clear legal standard for affected conduct and was reviewed carefully to eliminate drafting errors and ambiguities, so as to minimize litigation and undue burden on the Federal court system. DHS has determined that this rule meets the applicable standards provided in section 3(a) and 3 (b)(2) of Executive Order 12988.

H. Executive Order 13175 (Consultation and Coordination With Indian Tribal Governments)

This final rule will not have tribal implications under Executive Order 13175, Consultation and Coordination With Indian Tribal Governments, because it does not have substantial direct effects on one or more Indian tribes, on the relationship between the Federal Government and Indian tribes, or on the distribution of power and responsibilities between the Federal Government and Indian tribes.

I. Family Assessment

DHS has reviewed this rule in line with the requirements of section 654 of the Treasury General Appropriations Act, 1999, Public Law 105-277, 112 Stat. 2681 (1998). DHS has systematically reviewed the criteria specified in section 654(c)(1), by evaluating whether this regulatory action: (1) impacts the stability or safety of the family, particularly in terms of marital commitment; (2) impacts the authority of parents in the education, nurture, and supervision of their children; (3) helps the family perform its functions; (4) affects disposable income or poverty of families and children; (5) only financially impacts families, if at all, to the extent such impacts are justified; (6) may be carried out by State or local government or by the family; or (7) establishes a policy concerning the relationship between the behavior and personal responsibility of youth and the norms of society. If the agency determines a regulation may negatively affect family well-being, then the agency must provide an adequate rationale for its implementation.

DHS has determined that the implementation of this regulation will not negatively affect family well-being and will not have any impact on the autonomy and integrity of the family as an institution.

J. National Environment Policy Act (NEPA)

DHS and its components analyze proposed regulatory actions to determine whether the National Environmental Policy Act (NEPA), 42 U.S.C. 4321 et seq., applies and, if so, what degree of analysis is required. DHS Directive 023-01 Rev. 01 “Implementing the National Environmental Policy Act” (Directive) and Instruction Manual 023-01-001-01 Rev. 01 (Instruction Manual) ³² establish the policies and procedures that DHS and its components use to comply with NEPA.

³² The Instruction Manual contains DHS's procedures for implementing NEPA and was issued November 6, 2014, https://www.dhs.gov/ocrso/eed/epb/nepa (last updated July 29, 2025).

NEPA allows Federal agencies to establish, in their NEPA implementing procedures, categories of actions (“categorical exclusions”) that experience has shown do not, individually or cumulatively, have a significant effect on the human environment and, therefore, do not require an environmental assessment or environmental impact statement.³³ The Instruction Manual, Appendix A lists the DHS Categorical Exclusions.³⁴

³³ See 42 U.S.C. 4336(a)(2), 4336e(1).

³⁴ See Instruction Manual, Appendix A, Table 1.

Under DHS NEPA implementing procedures, for an action to be categorically excluded, it must satisfy each of the following three conditions: (1) The entire action clearly fits within one or more of the categorical exclusions; (2) the action is not a piece of a larger action; and (3) no extraordinary circumstances exist that create the potential for a significant environmental effect.³⁵

³⁵ Instruction Manual at V.B(2)(a)-(c).

This rule is limited to adjusting the premium processing fees on a biennial basis. This rule is strictly administrative and procedural and amends DHS's existing regulations by adjusting the fees that must be paid to request premium processing of immigration benefits. DHS has reviewed this rule and finds that no significant impact on the environment, or any change in environmental effect will result from the amendments being promulgated in this rule.

Accordingly, DHS finds that the promulgation of this rule's amendments to current regulations clearly fits within the categorical exclusion A3 established in DHS's NEPA implementing procedures as an administrative change with no change in environmental effect, is not part of a larger Federal action, and does not present extraordinary circumstances that create the potential for a significant environmental effect.

K. Paperwork Reduction Act

Under the Paperwork Reduction Act of 1995, 44 U.S.C. 3501-12, DHS must submit to OMB, for review and approval, any reporting requirements inherent in a rule unless they are exempt. This rule does not impose any new reporting or recordkeeping requirements under the Paperwork Reduction Act. USCIS will update Form G-1055, Fee Schedule, as appropriate.

List of Subjects in 8 CFR Part 106

Citizenship and naturalization, Fees, Immigration.

Accordingly, DHS amends part 106 chapter I of title 8 of the Code of Federal Regulations as follows:

PART 106—USCIS FEE SCHEDULE

1. The authority citation for part 106 continues to read as follows:

Authority: 8 U.S.C. 1101, 1103, 1254a, 1254b, 1304, 1356; Pub. L. 107-609; 48 U.S.C. 1806; Pub. L. 107-296, 116 Stat. 2135 (6 U.S.C. 101 note); Pub. L. 115-218, 132 Stat. 1547; Pub. L. 116-159, 134 Stat. 709.

2. Section 106.4 is amended by revising paragraph (c) to read as follows:

§ 106.4 Premium processing service.

* * * * *

(c) Designated benefit requests and fee amounts. Benefit requests designated for premium processing and the corresponding fees to request premium processing service are as follows:

(1) Application for classification of a nonimmigrant described in section 101(a)(15)(E)(i), (ii), or (iii) of the INA—$2,965.

(2) Petition for classification of a nonimmigrant described in section 101(a)(15)(H)(i)(b) of the INA or section 222(a) of the Immigration Act of 1990, Public Law 101-649—$2,965.

(3) Petition for classification of a nonimmigrant described in section 101(a)(15)(H)(ii)(b) of the INA—$1,780.

(4) Petition for classification of a nonimmigrant described in section 101(a)(15)(H)(iii) of the INA—$2,965.

(5) Petition for classification of a nonimmigrant described in section 101(a)(15)(L) of the INA—$2,965.

(6) Petition for classification of a nonimmigrant described in section 101(a)(15)(O)(i) or (ii) of the INA—$2,965.

(7) Petition for classification of a nonimmigrant described in section 101(a)(15)(P)(i), (ii), or (iii) of the INA—$2,965.

(8) Petition for classification of a nonimmigrant described in section 101(a)(15)(Q) of the INA—$2,965.

(9) Petition for classification of a nonimmigrant described in section 101(a)(15)(R) of the INA—$1,780.

(10) Application for classification of a nonimmigrant described in section 214(e) of the INA—$2,965.

(11) Petition for classification under section 203(b)(1)(A) of the INA—$2,965.

(12) Petition for classification under section 203(b)(1)(B) of the INA—$2,965.

(13) Petition for classification under section 203(b)(2)(A) of the INA not involving a waiver under section 203(b)(2)(B) of the INA—$2,965.

(14) Petition for classification under section 203(b)(3)(A)(i) of the INA—$2,965.

(15) Petition for classification under section 203(b)(3)(A)(ii) of the INA—$2,965.

(16) Petition for classification under section 203(b)(3)(A)(iii) of the INA—$2,965.

(17) Petition for classification under section 203(b)(1)(C) of the INA—$2,965.

(18) Petition for classification under section 203(b)(2) of the INA involving a waiver under section 203(b)(2)(B) of the INA—$2,965.

(19) Application under section 248 of the INA to change status to a classification described in section 101(a)(15)(F), (J), or (M) of the INA—$2,075.

(20) Application under section 248 of the INA to change status to be classified as a dependent of a nonimmigrant described in section 101(a)(15)(E), (H), (L), (O), (P), or (R) of the INA, or to extend stay in such classification—$2,075.

(21) Application for employment authorization—$1,780.

* * * * *

Kristi Noem,
Secretary, U.S. Department of Homeland Security.

[FR Doc. 2026-00321 Filed 1-9-26; 8:45 am]

BILLING CODE 9111-97-P